DEPARTMENT OF JUSTICE

National Institute of Corrections

Advisory Board Meeting

Time and Date: 8:30 a.m. to 4:30 p.m. on Monday, May 8, 2006. 8:30 a.m. to 4:30 p.m. on Tuesday, May 9, 2006.

Place: Hillsborough County Facility, Tampa, Florida 33601, Phone: 813-247-8310.

Status: Open.

Matters to be Considered: Reports; Faith Based; Mental Health; Report and Discussion on Management/Leadership Development; PREA Update; Visit to Large Jail Facilities and Programs; Report on Maine Project; Agency Reports.

FOR FURTHER INFORMATION CONTACT: Larry Solomon, Deputy Director, 202-307-3106, ext. 44254.

Morris L. Thigpen,
Director.

[FR Doc. 06-3744 Filed 4-18-06; 8:45 am]

BILLING CODE 4410-36-M